DEPARTMENT OF HOUSING AND URBAN DEVELOPMENT

[Docket No. FR-7062-N-09]

Privacy Act of 1974; System of Records

AGENCY: Office of Disaster Management and National Security, HUD.

ACTION: Notice of a new system of records.

SUMMARY: HUD Emergency Operations Center, Office of Disaster Management and National Security proposes to add a new system of records entitled, “Emergency Notification System”. The purpose of this system is to maintain emergency contact information for HUD personnel to enable emergency notifications involving an immediate threat to health or safety of HUD employees. The system provides for high-speed message delivery that reaches all HUD personnel across all available communication channels to deliver alerts and notifications issued by the Department of Homeland Security, other Federal Operations Centers, and/or local emergency officials regarding weather related emergencies, national security incidents, or other critical situations that disrupt the operations and accessibility of a worksite. The system will also enable the Department to account for the safety of HUD personnel during an emergency or incident.

DATES: This new system will be effective upon publication. New routine uses will be effective August 24, 2022. Submit comments on or before August 24, 2022.

ADDRESSES: You may submit comments, identified by docket number by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat, 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, The Privacy Office; 451 Seventh Street SW, Room 10139; Washington, DC 20410-0001; telephone number 202-708-3054 (this is not a toll-free number). Individuals who are hearing- or speech-impaired may access this telephone number via TTY by calling the Federal Relay Service at 800-877-8339 (this is a toll-free number).

SUPPLEMENTARY INFORMATION: The Department of Housing and Urban Development Act of 1965 established HUD as Cabinet-level agency. HUD will maintain the records covered by this notice. The new system of records notice Emergency Notification System, HUD ADM-10,” is being established to use existing work-related contact information and collect voluntary emergency contact information for current employees to be used in the event of an emergency or incident.

SYSTEM NAME AND NUMBER:

Emergency Notification System, HUD ADM-10.

SECURITY CLASSIFICATION:

Unclassified.

SYSTEM LOCATION:

HUD Emergency Operations Center, Office of Disaster Management and National Security, Office of the Chief Administrative Officer, Department of Housing and Urban Development, 451 Seventh Street SW, Room 6280, Washington, DC 20410-0001, Everbridge, 25 Corporate Drive, Suite 400 Burlington, MA, US 01803. Data centers are located in Northern California and West Virginia.

SYSTEM MANAGER(S):

Ms. Laura L. McClure, HUD Emergency Operations Center, Office of Disaster Management and National Security, Office of the Chief Administrative Officer, Department of Housing and Urban Development, 451 Seventh Street SW, Room 6280, Washington, DC 20410-0001.

AUTHORITY FOR MAINTENANCE OF THE SYSTEM:

5 U.S.C. 301, Departmental regulations, 44 U.S.C. 3101, Records management by agency heads; general duties, The Department of Housing and Urban Development Act of 1965, Presidential Policy Directive 8, Presidential Policy Directive 40, Federal Continuity Directive 1, Federal Executive Branch National Continuity Program and Requirements and Federal Continuity Directive 2, Federal Executive Branch Mission Essential Functions and Candidate Primary Mission Essential Functions Identification and Submission Process.

PURPOSE(S) OF THE SYSTEM:

The purpose of this system is to maintain emergency contact information for HUD personnel. The system provides for high-speed message delivery that reaches all HUD personnel in response to alerts and notification issued by the Department of Homeland Security, other Federal Operations Centers, and local emergency officials regarding weather related emergencies, national security incidents, or other critical situations that disrupt the operations and accessibility of a worksite. The system will also enable the Department to account for the safety of HUD personnel during an emergency or incident.

CATEGORIES OF INDIVIDUALS COVERED BY THE SYSTEM:

Federal employees, interns and detailees.

CATEGORIES OF RECORDS IN THE SYSTEM:

Name, email address, phone number, organization/office of assignment, and duty station. Individuals may voluntarily provide alternate contact information, personal email address or phone number.

RECORD SOURCE CATEGORIES:

Individuals and HUD Active Directory System.

ROUTINE USES OF RECORDS MAINTAINED IN THE SYSTEM, INCLUDING CATEGORIES OF USERS AND PURPOSES OF SUCH USES:

(1) To contractors, grantees, experts, consultants and their agents, or others performing or working under a contract, service, grant, or cooperative agreement with HUD, when necessary to accomplish an agency function related to a system of records. Disclosure requirements are limited to only those data elements considered relevant to accomplishing an agency function.

(2) (a) Appropriate agencies, entities, and persons when (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

(3) To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(4) To a congressional office from the record of an individual, in response to an inquiry from the congressional office made at the request of that individual.

(5) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(6) To appropriate Federal, State, local, tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

POLICIES AND PRACTICES FOR STORAGE OF RECORDS:

Electronic and Paper records.

POLICIES AND PRACTICES FOR RETRIEVAL OF RECORDS:

Records are retrievable by a variety of fields including, name, email address, phone number, organization/office assignment, or by some combination thereof.

POLICIES AND PRACTICIES FOR RETENTION AND DISPOSAL OF RECORDS:

The system is subject to HUD's existing records schedule and electronic records retention policy. HUD will maintain computer and paper records for three years, but longer retention is authorized if required for business use.

ADMINISTRATIVE, TECHNICAL, AND PHYSICAL SAFEGUARDS:

We retain electronic files containing personal identifiers in secure storage areas accessible only by our authorized employees and contractors who have a need for the information when performing their official duties. Access to electronic records is restricted to authorized personnel who have been issued non-transferrable access codes, unique identifiers, authentication ID, and passwords. Paper records are printed for quality control purposes and are considered working documents and they are maintained per the Policies and Practices for Retention and Disposal Records. Authorized personnel will be provided security awareness and incident response training no less than annually.

RECORD ACCESS PROCEDURES:

Individuals seeking notification of and access to their records in this system of records may submit a request in writing to the Department of Housing and Urban Development, Attn: FOIA Program Office, 451 7th Street SW, Suite 10139, Washington, DC 20410-0001. or by emailing foia@hud.gov. Individuals must furnish the following information for their records to be located:

1. Full name.

2. Signature.

3. The reason why the individual believes this system contains information about him/her.

4. The address to which the information should be sent.

CONTESTING RECORD PROCEDURES:

Same as the Notification Procedures below.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

None.

HISTORY:

This is a newly proposed system of records.

LaDonne White,
Senior Agency Official for Privacy, Office of Chief Human Capital Officer.

[FR Doc. 2022-15798 Filed 7-22-22; 8:45 am]

BILLING CODE 4210-67-P